DEPARTMENT OF ENERGY

Agency Information Collection Extension

AGENCY: U.S. Department of Energy.

ACTION: Notice of request for comments.

SUMMARY: The Department of Energy (DOE), pursuant to the Paperwork Reduction Act of 1995, intends to extend for three years, an information collection request with the Office of Management and Budget (OMB).

DATES: Comments regarding this proposed information collection must be received on or before June 2, 2025. If you anticipate any difficulty in submitting comments within that period, contact the person listed in the FOR FURTHER INFORMATION CONTACT section as soon as possible.

ADDRESSES: Written comments may be sent to Attila Csoma, Contract and Financial Assistance Policy Division, Office of Acquisition Management, U.S. Department of Energy, 1000 Independence Avenue SW, Washington, DC 20585-1615, or by email to Attila.Csoma@hq.doe.gov.

FOR FURTHER INFORMATION CONTACT: Attila Csoma, Mr. Csoma may be contacted by email at Attila.Csoma@hq.doe.gov, or by telephone at (240) 449-5619.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-4100;

(2) Information Collection Request Titled: Procurement Requirements;

(3) Type of Review: Renewal;

(4) Purpose: The Code of Federal Regulations (CFR), Title 48 Federal Acquisition Regulations System, Chapter 9 Department of Energy (DOE), Subchapter H Clauses and Forms, Part 952—Solicitation Provisions and Contract Clauses, and Subchapter I Agency Supplementary Regulations, Part 970 DOE Management and Operating Contracts, Section 970.52 Solicitation Provisions and Contract Clauses for Management and Operating Contracts require DOE to collect certain types of information from those seeking to do business with the Department or those awarded contracts by the Department. This package contains information collections necessary for the solicitation, award, administration, and closeout of procurement contracts;

(5) Annual Estimated Number of Respondents: 7,420;

(6) Annual Estimated Number of Total Responses: 7,672;

(7) Annual Estimated Number of Burden Hours: 667,056;

(8) Annual Estimated Reporting and Recordkeeping Cost Burden: $69,287,107.

Statutory Authority: 42 U.S.C. 2201.

Signing Authority

This document of the Department of Energy was signed on February 26, 2025, by Berta Schreiber, Director, Office of Acquisition Management and Senior Procurement Executive, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 31, 2025.
Jennifer Hartzell,
Alternate Federal Register Liaison Officer, U.S. Department of Energy.

[FR Doc. 2025-05729 Filed 4-2-25; 8:45 am]

BILLING CODE 6450-01-P